DEPARTMENT OF VETERANS AFFAIRS

[OMB Control No. 2900-0117]

Proposed Information Collection Activity: Proposed Collection; Comment Request

AGENCY: Office of Human Resources and Administration, Department of Veterans Affairs.

ACTION: Notice.

SUMMARY: The Office of Human Resources and Administration (HRA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on the information needed to determine an applicant's suitability and qualifications for employment.

DATES: Written comments and recommendations on the proposed collection of information should be received on or before April 30, 2007.

ADDRESSES: Submit written comments on the collection of information through http://www.Regulations.gov; or to Jean Hayes, Office of Human Resources Management (051B), Department of Veterans Affairs, 810 Vermont Avenue, NW., Washington, DC 20420; or e-mail: jean.hayes@va.gov. Please refer to “OMB Control No. 2900-0117” in any correspondence. During the comment period, comments may be viewed online through the Federal Docket Management System (FDMS) at http://www.Regulations.gov.

FOR FURTHER INFORMATION CONTACT: Jean Hayes at (202) 273-9706.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, HRA invites comments on: (1) Whether the proposed collection of information is necessary for the proper performance of VA's functions, including whether the information will have practical utility; (2) the accuracy of HRA's estimate of the burden of the proposed collection of information; (3) ways to enhance the quality, utility, and clarity of the information to be collected; and (4) ways to minimize the burden of the collection of information on respondents, including through the use of automated collection techniques or the use of other forms of information technology.

Title: Inquiry Concerning Applicant for Employment, VA Form Letter 5-127.

OMB Control Number: 2900-0117.

Type of Review: Extension of a currently approved collection.

Abstract: VA Form Letter 5-127 is used to verify qualifications of applicants for employment at VA. This information is obtained from individuals who have knowledge of the applicants' past work record, performance, and character. VA will use the data collected to determine the applicant's suitability and qualifications for employment.

Affected Public: Business or other for-profit, individuals or households, State, local or tribal government.

Estimated Annual Burden: 3,125 hours.

Estimated Average Burden per Respondent: 15 minutes.

Frequency of Response: One-time.

Estimated Number of Respondents: 12,500.

Dated: February 12, 2007.
By direction of the Secretary.
Denise McLamb,
Records Management Service.

[FR Doc. E7-3383 Filed 2-26-07; 8:45 am]

BILLING CODE 8320-01-P